DEPARTMENT OF ENERGY

Federal Energy Regulatory Commission

[Project No. 3407-087]

Big Wood Canal Company; Notice of Intent To File License Application, Filing of Pre-Application Document, Approving Use of the Traditional Licensing Process

a. Type of Filing: Notice Approving the Use of the Traditional Licensing Process.

b. Project No.: 3407-087.

c. Date Filed: January 3, 2022.

d. Submitted By: Big Wood Canal Company.

e. Name of Project: Magic Reservoir Hydroelectric Project.

f. Location: On the Big Wood River in the Blaine and Camas Counties, Idaho. The project occupies land within the U.S. Department of Interior, Bureau of Land Management (BLM).

g. Filed Pursuant to: 18 CFR part 5 of the Commission's Regulations.

h. Applicant Contact: Mr. Nicholas E. Josten, 2742 Saint Charles Ave, Idaho Falls, ID 83404, (208) 520-5135.

i. FERC Contact: Maryam Zavareh at (202) 502-8474 or email at Maryam.zavareh@ferc.gov.

j. Big Wood Canal Company filed its request to use the Traditional Licensing Process on January 3, 2022. Big Wood Canal Company provided public notice of its request on January 18, 2022. In a letter dated February 28, 2022, the Director of the Division of Hydropower Licensing approved Big Wood Canal Company's request to use the Traditional Licensing Process.

k. With this notice, we are initiating informal consultation with the U.S. Fish and Wildlife Service and/or NOAA Fisheries under section 7 of the Endangered Species Act and the joint agency regulations thereunder at 50 CFR, Part 402. We are also initiating consultation with the Idaho State Historic Preservation Officer, as required by section 106, National Historic Preservation Act, and the implementing regulations of the Advisory Council on Historic Preservation at 36 CFR 800.2.

l. With this notice, we are designating Big Wood Canal Company as the Commission's non-federal representative for carrying out informal consultation, pursuant to section 7 of the Endangered Species Act and section 305(b) of the Magnuson-Stevens Fishery Conservation and Management Act; and consultation pursuant to section 106 of the National Historic Preservation Act.

m. Big Wood Canal Company filed a Pre-Application Document (PAD; including a proposed process plan and schedule) with the Commission, pursuant to 18 CFR 5.6 of the Commission's regulations.

n. A copy of the PAD is available for review at the Commission in the Public Reference Room or may be viewed on the Commission's website (http://www.ferc.gov), using the “eLibrary” link. Enter the docket number, excluding the last three digits in the docket number field to access the document. For assistance, contact FERC Online Support at FERCONlineSupport@ferc.gov, (866) 208-3676 (toll free), or (202) 502-8659 (TTY). A copy is also available for inspection and reproduction at the address in paragraph h.

o. The licensee states its unequivocal intent to submit an application for a new license for Project No. 3407. Pursuant to 18 CFR 16.8, 16.9, and 16.10 each application for a new license and any competing license applications must be filed with the Commission at least 24 months prior to the expiration of the existing license. All applications for license for this project must be filed by January 01, 2025.

p. Register online at http://www.ferc.gov/docs-filing/esubscription.asp to be notified via email of new filing and issuances related to this or other pending projects. For assistance, contact FERC Online Support.

Dated: March 1, 2022.
Kimberly D. Bose,
Secretary.

[FR Doc. 2022-04768 Filed 3-4-22; 8:45 am]

BILLING CODE 6717-01-P